DEPARTMENT OF COMMERCE

National Oceanic and Atmospheric Administration

Agency Information Collection Activities; Submission to the Office of Management and Budget for Review and Approval; Comment Request; 3D Nation Elevation Data Requirements and Benefits Study

AGENCY: National Oceanic and Atmospheric Administration (NOAA), Commerce.

ACTION: Notice of information collection; request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of an Information Collection Request (ICR) to the Office of Management and Budget.

DATES: To ensure consideration, comments regarding this proposed ICR must be received on or before May 6, 2024.

ADDRESSES: Interested persons are invited to submit written comments to Adrienne Thomas, NOAA PRA Officer, at NOAA.PRA@noaa.gov. Please reference OMB Control Number 0648-0762 in the subject line of your comments. Do not submit confidential business information or otherwise sensitive or protected information.

FOR FURTHER INFORMATION CONTACT: Requests for additional information or specific questions related to collection activities should be directed to Ashley Chappell, NOAA Integrated Ocean and Coastal Mapping Coordinator, 1315 East West Hwy SSMC3 Rm 6206, Silver Spring, MD 20910, 240-429-0293, or ashley.chappell@noaa.gov.

SUPPLEMENTARY INFORMATION:

I. Abstract

This is a request for extension of a currently approved ICR.

NOAA and the U.S. Geological Survey (USGS) are working to improve the technology systems, data, and services that provide information about 3D elevation data and related applications within the United States. By continuing to learn about business uses and associated benefits that would be realized from improved elevation data, the agencies can more effectively prioritize and direct investments that will best serve user needs. The 3D Nation Elevation Data Requirements and Benefits Study (“3D Nation Study”) is part of the continuing effort to develop and refine future program alternatives that would provide enhanced 3D data to meet many Federal, State, and other national business needs. The 3D Nation Study seeks to understand needs for 3D elevation data in terms of mission-critical activities, geographic extents of data needs, accuracy requirements, frequency needed, and anticipated benefits of having the required data.

In 2022, NOAA and the USGS completed the first 3D Nation Study assessing requirements and benefits of topographic (terrestrial elevation) and bathymetric (water depth) data in inland, nearshore, and offshore geographies. The 3D Nation Study consisted of a standardized questionnaire covering a wide range of business uses that depend on elevation data to inform policy, regulation, scientific research, and management decisions. Input was gathered from a variety of government entities (e.g., Federal, State, local, Tribal) as well as not-for-profit, academic, and private/commercial users of elevation data. Collected responses were aggregated at the agency, organization, state and national levels. Responses associated with individuals were not distributed. Responses were one-time and voluntary. In-person interviews to clarify questionnaire results were arranged on a case-by-case basis.

NOAA and USGS are now analyzing respondent data from the first 3D Nation Study. The report and appendices of questionnaire and other report-related sections are available at the 3D Nation Study site (https://3dnation.iocm.noaa.gov/) and via NOAA's Integrated Ocean and Coastal Mapping Program page (https://iocm.noaa.gov/planning/3DNationStudy.html). The findings are being used to update a baseline of national business needs and associated benefits for 3D data and associated technologies. This baseline enhances the responsiveness of NOAA, USGS, and partner agency programs to stakeholder needs. It is intended to inform the design of directed future programs that balance requirements, benefits, and costs at a national scale.

NOAA and USGS plan to revisit national elevation data needs to assess changes to the 3D Nation Study baseline in or after 2026, which is why NOAA and USGS are seeking to extend this ICR. The survey tool for the future 3D Nation Study collection will likely include a subset of questions from the original questionnaire because the 2022 3D Nation Study provides a sufficient foundation to minimize questions in a number of study areas. Prior to conducting the next round of surveys, NOAA will submit a request for questionnaire revision to OMB based on analysis of the baseline survey.

II. Method of Collection

Emails regarding the survey will be sent to a comprehensive list of stakeholders, with a request to forward the email to any other interested survey participants. The emails will include a link to the online survey, which can also be provided upon request by paper or other means by emailing or calling the study point of contact. In-person interviews may follow to resolve questions, clarify answers and add more detail to responses. Responses may be summarized in the future 3D Nation Study report and verified by respondents willing for their input to be included in final reports and appendices.

III. Data

OMB Control Number: 0648-0762.

Form Number(s): None.

Type of Review: Regular submission (extension of a current information collection).

Affected Public: Federal government, State, local, or Tribal governments; not-for-profit institutions, academia, business, or other for-profit organizations.

Estimated Number of Respondents: 600.

Estimated Time per Response: 2 hours.

Estimated Total Annual Burden Hours: 1200.

Estimated Total Annual Cost to Public: $0 in recordkeeping/reporting activities.

Respondent's Obligation: Voluntary.

Legal Authority: Coast and Geodetic Survey Act of 1947 (33 U.S.C. 883a et seq.).

IV. Request for Comments

We are soliciting public comments to permit the Department/Bureau to: (a) Evaluate whether the proposed ICR is necessary for the proper functions of the Department, including whether the information will have practical use; (b) Evaluate the accuracy of our estimate of the time and cost burden for this proposed collection, including the validity of the methodology and assumptions used; (c) Evaluate ways to enhance the quality, use, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personally identifiable information—may be made publicly available at any time. While you may ask us in your comment to withhold your personally identifiable information from public review, we cannot guarantee that we will be able to do so.

Sheleen Dumas,
Department PRA Clearance Officer, Office of the Under Secretary for Economic Affairs, Commerce Department.

[FR Doc. 2024-04626 Filed 3-4-24; 8:45 am]

BILLING CODE 3510-08-P